DEPARTMENT OF THE INTERIOR

Bureau of Land Management

[22X.LLAZ921000.L14400000.BJ0000.LXSSA2250000.241A]

Notice of Filing of Plats of Survey; Arizona

AGENCY: Bureau of Land Management, Interior.

ACTION: Notice of official filing.

SUMMARY: The plats of survey of the following described lands were officially filed in the Bureau of Land Management (BLM), Arizona State Office, Phoenix, Arizona on the dates indicated. The surveys announced in this notice are necessary for the management of lands administered by the agency indicated.

ADDRESSES: These plats will be available for inspection in the Arizona State Office, Bureau of Land Management, One North Central Avenue, Suite 800, Phoenix, Arizona 85004-4427. Protests of any of these surveys should be sent to the Arizona State Director at the above address.

FOR FURTHER INFORMATION CONTACT: Geoff Graham, Chief Cadastral Surveyor of Arizona; (623) 580-5579; ggraham@blm.gov. Persons who use a telecommunications device for the deaf may call the Federal Relay Service (FRS) at 7-1-1 to leave a message or question for the above individual. The FRS is available 24 hours a day, 7 days a week. You will receive a reply during normal business hours.

SUPPLEMENTARY INFORMATION:

The Gila and Salt River Meridian, Arizona

The plat, in two sheets, representing the dependent resurvey of a portion of the Gila and Salt River Base Line (south boundary) and a portion of the subdivisional lines, the subdivision of certain sections and a metes-and-bounds survey in sections 4, 9, 21, 28 and 33, Township 1 North, Range 19 West, accepted April 12, 2022, and officially filed April 15, 2022, for Group 1201, Arizona.

This plat was prepared at the request of the United States Army.

The plat, in one sheet, representing the dependent resurvey of a portion of the south boundary, a portion of the subdivisional lines, the subdivision of sections 32 and 33, and a metes-and-bounds survey in section 33, Township 2 North, Range 19 West, accepted April 12, 2022, and officially filed April 15, 2022, for Group 1201, Arizona.

This plat was prepared at the request of the United States Army.

The plat, in two sheets, representing the dependent resurvey of a portion of the south boundary, the west boundary, and a portion of the subdivisional lines, and the subdivision of sections 28 and 33, Township 1 South, Range 19 West, accepted April 12, 2022, and officially filed April 15, 2022, for Group 1201, Arizona.

This plat was prepared at the request of the United States Army.

The plat, in three sheets, representing the dependent resurvey of a portion of the west boundary and a portion of the subdivisional lines, the subdivision of certain sections and a metes-and-bounds survey in sections 4, 8, 9, and 17, partially surveyed Township 2 South, Range 19 West, accepted April 12, 2022, and officially filed April 15, 2022, for Group 1201, Arizona.

This plat was prepared at the request of the United States Army.

The plat, in one sheet, representing the independent resurvey of a portion of the west boundary, the dependent resurvey of a portion of the subdivisional lines, the survey of the north boundary of section 30, the subdivision of section 30 and an informative traverse of the left shore of the Imperial Dam Reservoir, the left bank of the Gila Canal desilting basin and the left bank of the Gila Gravity Main Canal, partially surveyed Township 6 South, Range 21 West, accepted April 5, 2022, and officially filed April 12, 2022, for Group 1212, Arizona.

This plat was prepared at the request of the Bureau of Land Management.

A person or party who wishes to protest against any of these surveys must file a written notice of protest within 30 calendar days from the date of this publication with the Arizona State Director, Bureau of Land Management, stating that they wish to protest.

A statement of reasons for a protest may be filed with the notice of protest to the State Director, or the statement of reasons must be filed with the State Director within 30 days after the protest is filed. Before including your address, or other personal information in your protest, please be aware that your entire protest, including your personal identifying information, may be made publicly available at any time. While you can ask us in your comment to withhold your personal identifying information from public review, we cannot guarantee that we will be able to do so.

Authority: 43 U.S.C. chap. 3.

Geoffrey Graham,
Chief Cadastral Surveyor of Arizona.

[FR Doc. 2022-09322 Filed 4-29-22; 8:45 am]

BILLING CODE 4310-32-P